DEPARTMENT OF LABOR

Employment and Training Administration

[TA-W-56,149]

Honeywell International, Transportation Systems/Friction Materials Division, Cleveland, TN; Notice of Affirmative Determination Regarding Application for Reconsideration

By application of February 9, 2005, a representative of the Tennessee AFL-CIO requested administrative reconsideration of the Department of Labor's Notice of negative determination regarding workers' eligibility to apply for Alternative Trade Adjustment Assistance (ATAA), applicable to workers of the subject firm.

The Department's negative determination was issued on December 20, 2004. The Notice of determination was published in the Federal Register on January 24, 2005 (70 FR 3392).

The petitioner asserts that the workers of the subject firm possess skills which are not easily transferable to other jobs in the local commuting area and has provided information in support of its position.

The Department has carefully reviewed the petitioner's request for reconsideration and has determined that the Department will conduct further investigation based on the new information provided by the petitioner and the company official.

Conclusion

After careful review of the application, I conclude that the claim is of sufficient weight to justify reconsideration of the Department of Labor's prior decision. The application is, therefore, granted.

Signed at Washington, DC, this 1st day of March 2005
Elliott S. Kushner,
Certifying Officer, Division of Trade Adjustment Assistance.

[FR Doc. E5-1108 Filed 3-14-05; 8:45 am]

BILLING CODE 4510-30-P